DEPARTMENT OF COMMERCE

Census Bureau

Proposed Information Collection; Comment Request; Census Barriers, Attitudes, and Motivators Survey (CBAMS) II

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before February 28, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument(s) and instructions should be directed to Monica Wroblewski at 301.763.8813 or by e-mail to monica.j.wroblewski@census.gov.

SUPPLEMENTARY INFORMATION:

I. Abstract

The U.S. Census Bureau, in collaboration with a primary contractor and 14 subcontractors, created hundreds of advertisements in 28 different languages as part of the 2010 Census Integrated Communications Campaign. This effort was part of the Census Bureau's integrated approach to communications activities for the 2010 Census, combining advertising, partnerships, public relations, Census in Schools, Road Tour, and digital media with the Census Bureau's internal operations.

The Census 2010 Publicity Office (C2PO) conducted a series of qualitative, quantitative, attitudinal, and behavioral research initiatives to serve as a foundation for the 2010 Census Integrated Communications Program. Research results informed and validated marketing decisions throughout the entire campaign. C2PO researched all elements of the campaign across audiences to ensure that the messaging resonated with the targeted communities.

The Census Barriers, Attitudes, and Motivators Survey (CBAMS), formerly known as the Census Participation Survey, was a cornerstone research effort for developing messages that would resonate and motivate participation. CBAMS included over 4,000 in-depth interviews: about 3,000 by phone and another 1,000 in person to ensure coverage in areas that were linguistically, culturally or geographically hard-to-reach as well as areas without phone service (one of the “hard-to-count” factors). The CBAMS sample was probabilistic so that it would be representative of the nation, with oversamples in hard-to-count populations; data collection for CBAMS occurred in July and August 2008. This survey measured previous Census participation, attitudes towards the Census, knowledge of the purpose of the Census, potential motivators and barriers to Census participation, reactions to potential messages, media consumption, and demographic information.

Analysis of CBAMS data enhanced the cluster segmentation by providing much needed, up-to-date insight into how the target audiences feel about the Census, and why they may or may not participate, to help us develop appropriate messages to address these mindsets. CBAMS revealed five distinct mindsets among the population that varied in their knowledge of and attitudes toward the Census: Leading Edge, Head Nodders, Insulated, Unacquainted, and Cynical Fifth. While there are different cultural contexts that emerged, these mindsets exist throughout the population, regardless of race or ethnicity.

CBAMS II will first replicate, to the extent practicable, the first CBAMS to determine the extent to which mindsets about the Census have changed over time. However, CBAMS II will also be expanded to investigate why non-responders did not mail back their Census forms and to collect additional information to gain further insights into particular mindsets, such as the Cynical Fifth. In addition, CBAMS II will result in a survey tool—a limited set of questions—that can be used in follow-on research studies to identify the likely segment of a survey respondent. Also, the survey will probe further into respondents' views about the use of Administrative Records and other data sources to get a complete count of the population without direct interviews.

II. Method of Collection

CBAMS II will be administered to a sample of adults. Most interviews will be selected through random-digit-dialing and administered via Computer Assisted Telephone Interviewing (CATI), while a small portion of the interviews will be conducted in-person. The CATI interviews will be conducted on both landline and cellular telephones. The cellular phone sample is designed to reach the young, unattached, mobile population, while the in-person interviews target hard-to-count populations including linguistically isolated Hispanics and Asians, American Indians on reservations, and the rural, economically disadvantaged population.

III. Data

OMB Control Number: 0607-0947.

Form Number: N/A.

Type of Review: Reinstatement of an expired collection.

Affected Public: Individuals.

Estimated Number of Respondents: 4,200.

Estimated Time per Response: 25 minutes.

Estimated Total Annual Burden Hours: 1,750.

Estimated Total Annual Cost: There is no cost to the respondent other than their time.

Respondent's Obligation: Voluntary.

Legal Authority: Title 13 U.S.C. Section 141.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 23, 2010.
Glenna Mickelson,
Management Analyst, Office of the Chief Information Officer.

[FR Doc. 2010-32743 Filed 12-28-10; 8:45 am]

BILLING CODE 3510-07-P